DEPARTMENT OF COMMERCE

International Trade Administration

[A-602-803, A-423-805, C-423-806, A-351-817, C-351-818, A-122-822, A-405-802, A-427-808, C-427-810, C-428-817, A-428-815, C-428-817, A-428-816, A-588-826, A-580-816, C-580-818, A-201-809, C-201-810, A-455-802, A-485-803, A-469-803, C-469-804, A-401-805, C-401-804, A-583-080, C-412-815, A-412-814]

Continuation of Antidumping and Countervailing Duty Orders on Certain Carbon Steel Products from Australia, Belgium, Brazil, Canada, Finland, France, Germany, Japan, South Korea, Mexico, Poland, Romania, Spain, Sweden, Taiwan, and the United Kingdom

AGENCY: Import Administration, International Trade Administration, Department of Commerce.

ACTION: Notice of Continuation of Antidumping and Countervailing Duty Orders on Certain Carbon Steel Products from Australia, Belgium, Brazil, Canada, Finland, France, Germany, Japan, South Korea, Mexico, Poland, Romania, Spain, Sweden, Taiwan, and the United Kingdom.

SUMMARY: The Department of Commerce (“the Department”) and the International Trade Commission (“the Commission”), pursuant to sections 751(c) and 752 of the Tariff Act of 1930, as amended (“the Act”), determined that revocation of the antidumping and countervailing duty orders on certain carbon steel products would be likely to lead to continuation or recurrence of dumping or subsidization, and material injury to an industry in the United States within a foreseeable time. Therefore, pursuant to 19 CFR 351.218(f)(4), the Department is publishing notice of the continuation of the following antidumping and countervailing duty orders on certain carbon steel products from Australia, Belgium, Brazil, Canada, Finland, France, Germany, Japan, Korea, Mexico, Poland, Romania, Spain, Sweden, Taiwan, and the United Kindgom (“UK”):

Product | Country | ITA Case No.
Corrosion-Resistant | Australia | A-602-803
Cut-to-Length | Belgium | A-423-805
Cut-to-Length | Belgium | C-423-806
Cut-to-Length | Brazil | A-351-817
Cut-to-Length | Brazil | C-351-818
Corrosion-Resistant | Canada | A-122-822
Cut-to-Length | Finland | A-405-802
Corrosion-Resistant | France | A-427-808
Corrosion-Resistant | France | C-427-810
Corrosion-Resistant | Germany | C-428-817
Corrosion-Resistant | Germany | A-428-815
Cut-to-Length | Germany | C-428-817
Cut-to-Length | Germany | A-428-816
Corrosion-Resistant | Japan | A-588-826
Corrosion-Resistant | Korea | A-580-816
Corrosion-Resistant | Korea | C-580-818
Cut-to-Length | Mexico | A-201-809
Cut-to-Length | Mexico | C-201-810
Cut-to-Length | Poland | A-455-802
Cut-to-Length | Romania | A-485-803
Cut-to-Length | Spain | A-469-803
Cut-to-Length | Spain | C-469-804
Cut-to-Length | Sweden | A-401-805
Cut-to-Length | Sweden | C-401-804
Carbon Steel Plate | Taiwan | A-583-080
Cut-to-Length | UK | C-412-815
Cut-to-Length | UK | A-412-814

EFFECTIVE DATE: December 15, 2000.

FOR FURTHER INFORMATION CONTACT: Martha V. Douthit or James P. Maeder, Office of Policy for Import Administration, International Trade Administration, U.S. Department of Commerce, 14th Street and Constitution Ave., NW, Washington, D.C. 20230; telephone: (202) 482-5050 or (202) 482-3330, respectively.

SUPPLEMENTARY INFORMATION:

Background

On September 1, 1999, the Department initiated (64 FR 47767), and the Commission instituted (64 FR 47862), sunset reviews of the antidumping and countervailing duty orders on certain carbon steel products from Australia, Belgium, Brazil, Canada, Finland, France, Germany, Japan, Korea, Mexico, Netherlands, Poland, Romania, Spain, Sweden, Taiwan, and the UK pursuant to section 751(c) of the Act. As a result of its reviews, the Department found that revocation of the following antidumping and countervailing duty orders on certain carbon steel products from Australia, Belgium, Brazil, Canada, Finland, France, Germany, Japan, Korea, Mexico, the Netherlands, Poland, Romania, Spain, Sweden, Taiwan, and the UK would likely lead to continuation or recurrence of dumping and/or subsidization, and notified the Commission of the magnitude of the margins likely to prevail were the orders revoked:

Product | Country | ITA Case No. | Federal Register Citation | Date
Corrosion-Resistant | Australia | A-602-803 | 65 FR 18049 | 04/06/00
Cut-to-Length | Belgium | A-423-805 | 65 FR 18292 | 04/07/00
Cut-to-Length | Belgium | C-423-806 | 65 FR 18066 | 04/06/00
Cut-to-Length | Brazil | A-351-817 | 65 FR 18052 | 04/06/00
Cut-to-Length | Brazil | C-351-818 | 65 FR 18065 | 04/06/00
Corrosion-Resistant | Canada | A-122-822 | 65 FR 47379 | 08/02/00
Cut-to-Length | Finland | A-405-802 | 65 FR 18054 | 04/06/00
Corrosion-Resistant | France | A-427-808 | 65 FR 18050 | 04/06/00
Corrosion-Resistant | France | C-427-810 | 65 FR 18063 | 04/06/00
Corrosion-Resistant | Germany | C-428-817 | 65 FR 47407 | 08/02/00
Corrosion-Resistant | Germany | A-428-815 | 65 FR 18051 | 04/06/00
Cut-to-Length | Germany | C-428-817 | 65 FR 47407 | 08/02/00
Cut-to-Length | Germany | A-428-816 | 65 FR 18055 | 04/06/00
Corrosion-Resistant | Japan | A-588-826 | 65 FR 47380 | 08/02/00
Corrosion-Resistant | Korea | A-580-816 | 65 FR 18044 | 04/06/00
Corrosion-Resistant | Korea | C-580-818 | 65 FR 18973 | 04/10/00
Cut-to-Length | Mexico | A-201-809 | 65 FR 18052 | 04/06/00
Cut-to-Length | Mexico | C-201-810 | 65 FR 18067 | 04/06/00
Cut-to-Length | Poland | A-455-802 | 65 FR 18054 | 04/06/00
Cut-to-Length | Romania | A-485-803 | 65 FR 47382 | 08/02/00
Cut-to-Length | Spain | A-469-803 | 65 FR 18056 | 04/06/00
Cut-to-Length | Spain | C-469-804 | 65 FR 18307 | 04/07/00
Cut-to-Length | Sweden | A-401-805 | 65 FR 18054 | 04/06/00
Cut-to-Length | Sweden | C-401-804 | 65 FR 18305 | 04/07/00
Carbon Steel Plate | Taiwan | A-583-080 | 65 FR 18043 | 04/06/00
Cut-to-Length | UK | C-412-815 | 65 FR 18309 | 04/07/00
Cut-to-Length | UK | A-412-814 | 65 FR 18056 | 04/06/00

On December 1, 2000, the Commission determined, pursuant to section 751(c) of the Act, that revocation of the above referenced antidumping and countervailing duty orders on certain carbon steel products from Australia, Belgium, Brazil, Canada, Finland, France, Germany, Japan, Korea, Mexico, Poland, Romania, Spain, Sweden, Taiwan, and the UK would be likely to lead to continuation or recurrence of material injury to an industry in the United States within a reasonably foreseeable time. See Certain Carbon Steel Products from Australia, Belgium, Brazil, Canada, Finland, France, Germany, Japan, Korea, Mexico, Netherlands, Poland, Romania, Spain, Sweden, Taiwan, and the United Kingdom, 65 FR 75301 (December 1, 2000), as amended 65 FR 77074 (December 8, 2000), and USITC Publication 3364, Investigation Nos. AA1921-197 (Review) 701-TA-231, 319-320, 322, 325-328, 340, 342, and 348-350 (Review), and 731-TA-573-576, 578, 582-587, 604, 607-608, 612, and 614-618 (Review) (November 2000).

Scope of the Orders: See Appendix.

Determination

As a result of the determination by the Department and the Commission that revocation of the antidumping and countervailing duty orders on certain carbon steel products would be likely to lead to continuation or recurrence of dumping or subsidization and material injury to an industry in the United States, pursuant to section 751(d)(2) of the Act, the Department hereby orders the continuation of the antidumping and countervailing duty orders on certain carbon steel products referenced above.

The Department will instruct the Customs Service to continue to collect duty deposits at the rates in effect at the time of entry for all imports of subject merchandise. The effective date of continuation and revocation of these orders will be the date of publication in the Federal Register of this notice. Pursuant to section 751(c)(2) and 751(c)(6) of the Act, the Department intends to initiate the next five-year review of the above referenced orders on certain carbon steel products from Australia, Belgium, Brazil, Canada, Finland, France, Germany, Japan, Korea, Mexico, Poland, Romania, Spain, Sweden, Taiwan, and the UK not later than November 2005.

Dated: December 8, 2000.
Joseph A. Spetrini,
Acting Assistant Secretary for Import Administration.

Appendix—Scope of the Antidumping and Countervailing Duty Orders; Corrosion-Resistant Carbon Steel Flat Products

Australia (A-602-803); Canada (A-122-822); France (A-427-808; C-427-810); Germany (A-428-815; C-428-817); Japan (A-588-826); Korea (A-580-816; C-580-818)

The products covered by these antidumping and countervailing duty orders on certain corrosion-resistant carbon steel flat products include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (“HTS”) under item numbers 7210.30.0030, 7210.30.0060, 7210.31.0000, 7210.39.0000, 7210.41.0000, 7210.49.0030, 7210.49.0090, 7210.60.0000, 7210.61.0000, 7210.69.0000, 7210.70.6030, 7210.70.6060, 7210.70.6090, 7210.90.1000, 7210.90.6000, 7210.90.9000, 7210.20.000, 7212.21.0000, 7212.29.0000, 7212.30.1030, 7212.30.1090, 7212.30.3000, 7212.30.5000, 7212.40.1000, 7212.40.5000, 7212.50.0000, 7212.60.0000, 7215.90.1000, 7215.90.3000, 7215.90.5000, 7217.12.1000, 7217.13.1000, 7217.19.1000, 7217.19.5000, 7217.20.1500, 7217.22.5000, 7217.23.5000, 7217.29.1000, 7217.29.5000, 7217.30.1530, 7217.30.1560, 7217.32.5000, 7217.33.5000, 7217.39.1000, 7217.39.5000, 7217.90.1000, 7217.90.5030, 7217.90.5060, 7217.90.5090.

Included are flat-rolled products of non-rectangular cross-section where such cross-section is achieved subsequent to the rolling process (i.e., products which have been “worked after rolling”)—for example, products which have been beveled or rounded at the edges.

Excluded are flat-rolled steel products either plated or coated with tin, lead, chromium, chromium oxides, both tin and lead (“terne plate”), or both chromium and chromium oxides (“tin-free steel”), whether or not painted, varnished or coated with plastics or other nonmetallic substances in addition to the metallic coating; clad products in straight lengths of 0.1875 inch or more in composite thickness and of a width which exceeds 150 millimeters and measures at least twice the thickness; and certain clad stainless flat-rolled products, which are three-layered corrosion-resistant carbon steel flat-rolled products less than 4.75 millimeters in composite thickness that consist of a carbon steel flat-rolled product clad on both sides with stainless steel in a 20%-60%-20% ratio. Excluded are certain electrolytic zinc-coated steel coiled rolls from Japan. Also excluded from the antidumping duty order on corrosion-resistant carbon steel flat products from Japan are certain corrosion-resistant carbon steel flat products meeting the following specifications: (1) Widths ranging from 10 millimeters (0.394 inches) through 100 millimeters (3.94 inches); (2) thicknesses, including coatings, ranging from 0.11 millimeters (0.004 inches) through 0.60 millimeters (0.024 inches); and (3) a coating that is from 0.003 millimeters (0.00012 inches) through 0.005 millimeters (0.000196 inches) in thickness and that is comprised of either two evenly applied layers, the first layer consisting of 99 percent zinc, 0.5 percent cobalt, and 0.5 percent molybdenum followed by a layer consisting of chromate, and finally, a layer consisting of silicate. The HTS item numbers are provided for convenience and Customs purposes. The written description remains dispositive.

Cut-to-Length

Belgium (A-423-805, C-423-806); Brazil (A-351-817, C-351-818); Finland (A-405-802); Germany (A-428-816, C-428-817); Mexico (A-201-809, C-201-810); Poland (A-455-802); Romania (A-485-803); Spain (A-469-803, C-469-804); Sweden (A-401-805, C-401-804); UK (A-412-814, C-412-815)

The products covered by these antidumping and countervailing duty orders on cut-to-length carbon steel plate products include hot-rolled carbon steel universal-mill plates (i.e., flat-rolled products rolled on four faces or in a closed box pass, of a width exceeding 150 millimeters but not exceeding 1,250 millimeters and of a thickness of not less than 4 millimeters, not in coils and without patterns in relief), or rectangular shape, neither clad, plated nor coated with metal, whether or not painted, varnished, or coated with plastics or other nonmetallic substances; and certain hot-rolled carbon steel flat-rolled products in straight lengths, or rectangular shape, hot rolled, neither clad, plated, nor coated with plastics or other nonmetallic substances, 4.75 millimeters or more in thickness and of a width which exceeds 150 millimeters and measures at least twice the thickness, as currently classifiable in the United States Harmonized Tariff Schedule (“USHTS”) under item numbers: 7208.22.000, 7208.31.0000, 7208.32.0000, 7208.33.1000, 7208.33.5000, 7208.38.000, 7208.40.3030, 7208.40.3060, 7208.41.0000, 7208.42.0000, 7208.43.0000, 7208.51.0030, 7208.51.0045, 7208.51.0060, 7208.52.000, 7208.53.0000, 7208.90.0000, 7210.70.3000, 7210.90.9000, 7211.11.0000, 7211.12.0000, 7211.13.0000, 7211.14.0030, 7211.14.0045, 7211.21.0000, 7211.22.0045, 7211.90.0000, 7212.40.1000, 7212.40.5000, 7212.50.0000, 7212.50.5000.

Excluded from the scope is grade X-70 plate. Also excluded from the scope of the antidumping duty orders on cut-to-length steel plate from Finland, United Kingdom and Germany, and the countervailing duty order on cut-to-length steel plate from Germany and the United Kingdom, are plate products with a maximum thickness of 80 mm in steel grades BS 7191, 355 EMZ, as amended by Sable Offshore Energy Project specification XB MOO Y 15 0001, types 1 and 2. Also excluded from the antidumping duty order are cut-to-length steel plate from Canada meeting the following criteria: (1) 100 percent dry steel plates, virgin steel, no scrap content (free of Cobalt-60 and other radioactive nuclides); (2) 0.290 inches maximum thickness, plus 0.0, minus 0.030 inches; (3) 48.00 inch wide, plus 0.05, minus 0.0 inches; (4) 10 foot lengths, plus 0.5, minus 0.0 inches; (5) flatness, plus/minus 0.5 inch over 10 feet; (6) AISI 1006; (7) tension leveled; (8) pickled and oiled; and (9) carbon content, 0.3 to 0.8 (maximum). The Department revoked the antidumping duty order on cut-to-length carbon steel plate from Canada with respect to certain cut-to-length carbon steel plate free of cobalt-60 and other radioactive nuclides; and with certain dimensions and other characteristics. The HTS item numbers are provided for convenience and customs purposes. The Department's written description remains dispositive.

Carbon Steel Plate

Taiwan (A-583-080)

Imports covered by this antidumping order are shipments of hot-rolled carbon steel plate, 0.1875 inch or more in thickness, over eight inches in width, not in coils, not pickled, not coated, or plated with metal, not clad, nor pressed or stamped to non-rectangular shape. Such merchandise was classifiable under HTS item number 607.6615. These imports are currently classifiable under the HTS item numbers 7208.40.3030, 7208.40.3060,7208.51.0030, 7208.51.0045, 7208.51.0060, 7208.52.0000, 7211.13.0000, 7211.14.0030, and 7211.14.0045.

The HTS item numbers are provided for convenience and customs purposes. The Department's written description remains dispositive.

[FR Doc. 00-31944 Filed 12-14-00; 8:45 am]

BILLING CODE 3510-DS-P